DEPARTMENT OF THE INTERIOR

Fish and Wildlife Service

[FWS-R5-R-2013-N265; BAC-4311-K9]

Monomoy National Wildlife Refuge, Chatham, MA; Draft Comprehensive Conservation Plan and Environmental Impact Statement

AGENCY: Fish and Wildlife Service, Interior.

ACTION: Notice of availability; request for comments.

SUMMARY: We, the U.S. Fish and Wildlife Service (Service), announce the availability of a draft comprehensive conservation plan (CCP) and environmental impact statement (EIS) for Monomoy National Wildlife Refuge (NWR, refuge) for public review and comment. In this draft CCP/EIS, we describe how we propose to manage the refuge for the next 15 years.

DATES: To ensure consideration, we must receive your written comments by June 9, 2014. We will hold public meetings during a 60-day public comment period. In addition, we will use special mailings, newspaper articles, internet postings, and other media announcements to inform people of opportunities for input, including details on when and where public meetings will occur.

ADDRESSES: Send your comments or requests for more information by any one of the following methods:

• Email: northeastplanning@fws.gov. Include “Monomoy NWR Draft CCP/EIS” in the subject line of the message.

• Fax: Attention: Libby Herland, Project Leader, 978-443-2898.

• U.S. Mail: Attention: Libby Herland, Project Leader, Eastern Massachusetts National Wildlife Refuge Complex, 73 Weir Hill Road, Sudbury, MA 01776.

• In-Person Drop Off: You may drop off comments during regular business hours at the above address.

You will find the draft CCP/EIS, as well as information about the planning process and a summary of the CCP, on the planning Web site: http://www.fws.gov/refuge/monomoy/what_we_do/conservation.html.

FOR FURTHER INFORMATION CONTACT: Libby Herland, 978-443-4661, x 11.

SUPPLEMENTARY INFORMATION:

Introduction

With this notice, we continue the CCP process for Monomoy NWR, which officially began on February 24, 1999, when we published a Federal Register notice (64 FR 9166) announcing our intent to prepare a CCP. The notice indicated that one draft CCP/EIS would be written for all eight refuges in the Eastern Massachusetts NWR Complex (refuge complex), of which Monomoy NWR is a part. As our work got under way to develop one CCP/EIS for eight refuges, we recognized that each had distinct issues and management concerns, and it became apparent that combining them all into one plan would prove too challenging. Thus, in two separate Federal Register notices—one published on February 15, 2001 (66 FR 10506), and a second one published on December 13, 2004 (69 FR 72210)—we explained our intent to reorganize our CCP planning effort for the eight refuges, including Monomoy NWR. For more information about the initial steps of the planning process and the history of this refuge, see the December 13, 2004, notice.

Background

The CCP Process

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge consistent with the NWRS mission, and to determine how the public can use each refuge. The planning process is a way for us and the public to evaluate management goals and objectives that will ensure the best possible approach to wildlife, plant, and habitat conservation, while providing for wildlife-dependent recreational opportunities that are compatible with each refuge's establishing purposes and the mission of the NWRS.

CCP Alternatives, Including Selected Alternative

The draft CCP/EIS, which includes detailed information about the planning process, refuge resources, management issues, and management alternatives considered and proposed, may be found on our Web site at http://www.fws.gov/refuge/monomoy/what_we_do/conservation.html. There are three refuge management alternatives considered in the draft CCP/EIS; the Service's preferred alternative is detailed in the draft plan as alternative B. The alternatives analyzed in detail include:

Alternative A: Current Management (No Action)

This alternative reflects current management, including activities previously undertaken, or already planned or approved, and is the baseline for comparing the other two alternatives. In addition to actions identified as common to all, under alternative A, there would be little or no change in our current refuge programs at Monomoy NWR. We would initiate few, if any, new wildlife population, habitat, or ecosystem management activities. No new public recreational opportunities would be undertaken, and there would be no enhancements to existing programs and opportunities. The Monomoy Wilderness would continue to be managed to protect wilderness character. The refuge would continue its current operations and maintenance activities within its current staffing and funding levels.

Alternative B: Enhanced Management of Habitat and Public Uses (Service-Preferred Alternative)

Alternative B, in comparison to alternative A, represents an extension and progression of all areas of refuge management. Under alternative B, new biological program activities would be initiated. Special emphasis would be placed on obtaining baseline data to increase our knowledge of wildlife populations and habitats in this dynamic coastal environment, enhance our ability to evaluate those resources in a regional context, and anticipate the effects of climate change. The new information would be used to develop the detailed step-down plans proposed under this alternative. Wildlife and habitat surveys and inventories would be prioritized to provide the data needed to evaluate the effectiveness of refuge management, and to adapt management as warranted, in order to achieve long-range refuge goals and objectives.

Under alternative B, new and existing compatible wildlife-dependent recreational opportunities would be provided consistent with refuge purposes for protecting migratory birds and wilderness character. Special emphasis would be placed on providing enhanced, sustainable, and compatible opportunities for all six priority wildlife-dependent recreational uses defined in the Administration Act. Staffing would be modestly increased to accommodate new programs and activities, and proposed new visitor contact facilities would provide better access to information and support quality educational and interpretive programs.

Alternative C: Natural Processes

Alternative C proposes less intensive management on all refuge lands. It would be guided by a philosophy of allowing natural processes and succession of habitats to progress, consistent with preserving wilderness character, and to the extent that it does not compromise refuge purposes and goals. Generally, wildlife and habitat management, and inventories and monitoring efforts, would be reduced from those planned under alternative A. We would manage the refuge visitor services program with an emphasis on providing wildlife-dependent recreation that uses hand tools and non-motorized equipment, protects naturalness, and provides solitude or primitive, unconfined recreation.

Under all alternatives, the boundary of the refuge would be modified to include an area on Nauset/South Beach, approximately 717 acres, that is within the Cape Cod National Seashore boundary, but which accreted and joined the refuge's South Monomoy Island. With this addition, the refuge comprises 8,321 acres. We would incorporate the Nauset/South Beach addition into, and manage it consistent with, the refuge's existing designated wilderness area.

Public Involvement

We will give the public an opportunity to provide input at public meetings. You can obtain the schedule from the address or Web site listed in this notice (see ADDRESSES). You may also submit comments anytime during the public comment period.

Public Availability of Comments

Before including your address, phone number, email address, or other personal identifying information in your comment, you should be aware that your entire comment—including your personal identifying information—may be made publicly available at any time. While you can ask us in your comment to withhold your personal identifying information from public review, we cannot guarantee that we will be able to do so.

Dated: March 5, 2014.
Deborah Rocque,
Acting Regional Director, Northeast Region.

[FR Doc. 2014-07531 Filed 4-9-14; 8:45 am]

BILLING CODE 4310-55-P